DEPARTMENT OF COMMERCE

International Trade Administration

[A-570-910]

Correction to Notice of Implementation of Determinations Under Section 129 of the Uruguay Round Agreements Act: Circular Welded Carbon Quality Steel Pipe From the People's Republic of China

AGENCY: Import Administration, International Trade Administration, Department of Commerce.

SUMMARY: On August 30, 2012, the Department of Commerce (“the Department”) published a notice in the Federal Register that inadvertently omitted an exporter and producer receiving an amended antidumping duty cash deposit rate as part of implementation of its determinations under section 129 of the Uruguay Round Agreements Act (“URAA”) regarding the antidumping duty investigation on circular welded carbon quality steel pipe (“CWP”) from the People's Republic of China (“PRC”).¹ This notice is a correction.

¹ See Implementation of Determinations Under Section 129 of the Uruguay Round Agreements Act: Certain New Pneumatic Off-the-Road Tires; Circular Welded Carbon Quality Steel Pipe; Laminated Woven Sacks; and Light-Walled Rectangular Pipe and Tube From the People's Republic of China, 77 FR 52683 (August 30, 2012) (“Implementation of Section 129 Determinations”).

DATES: Effective Date: August 21, 2012.

FOR FURTHER INFORMATION CONTACT: Daniel Calhoun, U.S. Department of Commerce, 14th Street and Constitution Avenue NW., Washington, DC 20230; telephone: (202) 482-1439.

SUPPLEMENTARY INFORMATION: On August 21, 2012, the U.S. Trade Representative instructed the Department to implement its determinations under section 129 of the URAA regarding the antidumping duty investigation on CWP from the PRC, which renders them not inconsistent with the World Trade Organization (“WTO”) dispute settlement findings in United States—Definitive Anti-Dumping and Countervailing Duties on Certain Products from China, WT/DS379/AB/R (March 11, 2011) (“DS 379”). The Department issued its final determinations in these section 129 proceedings on July 31, 2012.² On August 30, 2012, the Department published its notice of implementation of determinations under section 129 of the URAA in the antidumping duty investigation on CWP from the PRC.³

² See Memorandum from Christian Marsh, Deputy Assistant Secretary for Antidumping and Countervailing Duty Operations to Paul Piquado, Assistant Secretary for Import Administration, regarding: Final Determinations: Section 129 Proceedings Pursuant to the WTO Appellate Body's Findings in WTO DS 379 Regarding the Antidumping and Countervailing Duty Investigations of Circular Welded Carbon Quality Steel Pipe from the People's Republic of China, dated July 31, 2012.

³ See Implementation of Section 129 Determinations.

Subsequent to publication, we identified a clerical error in Implementation of Section 129 Determinations as published in the Federal Register. One of the CWP exporter/producer chain rates was inadvertently omitted from the chart under the section entitled, “Final Determinations: Recalculated Antidumping Duty Cash Deposit Rates.” The Department is now correcting this inadvertent error. The names of the exporter and producer are listed below:

Final Determinations: Recalculated Antidumping Duty Cash Deposit Rates

Amended Antidumping Duty Cash Deposit Rates (Percent) Circular Welded Carbon Quality Steel Pipe From the PRC
Exporter | Producer | Weighted-Average Dumping Margin ⁴ | Revised Cash Deposit Rate
Shanghai Metals & Minerals Import & Export Corp. | Huludao Steel Pipe Industrial Co., Ltd. | 69.20 | 45.35
⁴ See Notice of Final Determination of Sales at Less Than Fair Value and Affirmative Final Determination of Critical Circumstances: Circular Welded Carbon Quality Steel Pipe from the People's Republic of China, 73 FR 31970, 31973 (June 5, 2008).

All recalculated countervailing duty rates and antidumping duty cash deposit rates as published in Implementation of Section 129 Determinations remain unchanged.

Implementation of the Revised Cash Deposit Requirements

With respect to this proceeding, the cash deposit rate for the above-named exporter/producer combination has not been superseded by intervening administrative reviews. Therefore, the Department will instruct U.S. Customs and Border Protection to require a cash deposit for estimated antidumping duties at the appropriate rate for the exporter/producer combination specified above, for entries of subject merchandise, entered or withdrawn from warehouse, for consumption, on or after August 21, 2012.

This correction of the notice of implementation of this section 129 determination is published in accordance with section 129(c)(2)(A) of the URAA.

Dated: October 19, 2012.
Paul Piquado,
Assistant Secretary for Import Administration.

[FR Doc. 2012-26668 Filed 10-29-12; 8:45 am]

BILLING CODE 3510-DS-P